DEPARTMENT OF COMMERCE

National Telecommunications and Information Administration

Technology Opportunities Program (TOP) Grant Recipient Survey

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A).

DATES: Written comments must be submitted on or before July 2, 2001.

ADDRESSES: Direct all written comments to Madeleine Clayton, Departmental Paperwork Clearance Officer, Department of Commerce, Room 6086, 14th and Constitution Avenue, NW, Washington, DC 20230 (or via the Internet mclayton@doc.gov).

FOR FURTHER INFORMATION CONTACT: Requests for additional information or copies of the information collection instrument(s) and instructions should be directed to Clifton Beck, NTIA, Room H-4888, U.S. Department of Commerce, 14th and Constitution Avenue, NW, Washington, DC 20230 (or via the Internet cbeck@ntia.doc.gov).

SUPPLEMENTARY INFORMATION:

I. Abstract

The purpose of the Technology Opportunities Program (TOP), formerly the Telecommunications and Information Infrastructure Assistance Program (TIIAP), is to promote the widespread and efficient use of advanced telecommunications services in the public and non-profit sectors to serve America's communities.

The program has the following objectives:

• To promote the widespread availability and use of digital network technologies.

• To increase the awareness in public and non-profit sectors of digital information technologies and their benefits.

• To stimulate public and non-profit sector organizations to examine potential benefits of, and plan for, investments in digital network technologies.

• To provide a wide variety of model digital network technology projects for public and non-profit sector organizations to follow.

• To educate the public and non-profit sectors about best practices in implementing a wide variety of digital network projects.

• To help reduce disparities in access to, and use of, digital network technologies.

II. Method of Collection

Survey mailed to recipients.

III. Data

OMB Number: 0660-0013.

Form Number: None.

Type of Review: Regular submission.

Affected Public: State and local Governments and non-profit institutions.

Estimated Number of Respondents: 210.

Estimated Time Per Response: 1 hour.

Estimated Total Annual Respondent Burden Hours: 210.

Estimated Total Annual Cost to the Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to the notice will be summarized and/or included in the request for OMB approval of the information collection; they also will become a matter of public record.

Dated: April 24, 2001.
Madeleine Clayton,
Departmental Paperwork Clearance Officer, Office of the Chief Information Officer.

[FR Doc. 01-10766 Filed 4-30-01; 8:45 am]

BILLING CODE 3510-60-P